DEPARTMENT OF AGRICULTURE

Office of the Secretary

Improving Customer Service

AGENCY: Office of the Secretary, USDA.

ACTION: Request for information.

SUMMARY: Consistent with Executive Order 13781, “Comprehensive Plan for Reorganizing the Executive Branch,” and using the authority of the Secretary to reorganize the Department under section 4(a) of Reorganization Plan No. 2 of 1953, the U.S. Department of Agriculture (USDA) is soliciting public comment on a proposed realignment of the Departmental Administration organization that will improve customer service, better align functions within the organization, and ensure improved strategic decision-making.

DATES: Comments and information are requested on or before March 2, 2018.

ADDRESSES: Interested persons are invited to submit comments regarding this notice. All submissions must refer to “Improving Customer Service” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand delivery, or Courier. Paper, disk, or CD-ROM submissions should be submitted to the Office of the Assistant Secretary for Administration, USDA, Jamie L. Whitten Building, Room 240-W, 1400 Independence Ave. SW, Washington, DC 20250.

FOR FURTHER INFORMATION CONTACT: Dr. Johanna Briscoe, 202-720-291, Johanna.Briscoe@dm.usda.gov.

SUPPLEMENTARY INFORMATION: USDA is committed to operating efficiently, effectively, and with integrity, and minimizing the burdens on individuals, businesses, and communities for participation in and compliance with USDA programs. USDA works to support the American agricultural economy to strengthen rural communities; to protect and conserve our natural resources; and to provide a safe, sufficient, and nutritious food supply for the American people. The Department's wide range of programs and responsibilities touches the lives of every American every day.

I. Executive Orders 13781

Executive Order 13781, “Comprehensive Plan for Reorganizing the Executive Branch”, is intended to improve the efficiency, effectiveness, and accountability of the executive branch. The principles in the Executive Order provide the basis for taking actions to enhance and strengthen the delivery of USDA programs.

II. Reorganization Actions

Secretary Perdue intends to take actions to strengthen customer service and improve efficiencies at USDA by taking the following actions:

• Establishing a Customer Experience Office within the Office of the Assistant Secretary for Administration to coordinate agency actions that will improve customer service across the Department;

• Establishing the Office of Property and Fleet Management, and realigning the property, fleet, and hazardous materials management functions of the Office of Procurement and Property Management (OPPM) into the new office;

• Realigning the workers' compensation and safety program out of OPPM into the Office of Human Resources Management (OHRM);

• Transferring the directives program and records management function from the Office of the Chief Information Officer (OCIO) to the Office of the Executive Secretariat (OES);

• Realigning the classified network management and the controlled unclassified information functions from OCIO to the Office of Homeland Security (OHS); and

• Renaming OPPM the Office of Contracting and Procurement.

III. Request for Information

USDA is seeking public comment on these actions and notes that this notice is issued solely for information and program-planning purposes. While responses to this notice do not bind USDA to any further actions, all submissions will be reviewed by the appropriate program office, and made publicly available on http://www.regulations.gov.

Dated: January 31, 2018.
Donald Bice,
Acting Deputy Assistant Secretary for Administration.

[FR Doc. 2018-02388 Filed 2-6-18; 8:45 am]

BILLING CODE 3410-90-P